DEPARTMENT OF DEFENSE

Department of the Navy

Notice of Intent To Grant Partially Exclusive Patent License; Axis3

AGENCY: Department of the Navy, DoD.

ACTION: Notice of intent to grant license.

SUMMARY: The Department of the Navy hereby gives notice of its intent to grant to Axis3 a revocable, nonassignable, partially exclusive license to practice the Government-Owned inventions described in U.S. Patent No. 9746913 and U.S. Patent No. 10142596.

DATES: Anyone wishing to object to the grant of this license has fifteen (15) days from the publication date of this notice to file written objections along with supporting evidence, if any.

ADDRESSES: Written objections are to be filed with the Office of Research and Technology Applications, Naval Surface Warfare Center, Port Hueneme Division, Code 00T, 4363 Missile Way, Port Hueneme, CA 93043-4307. File an electronic copy of objections with alan.w.jaeger@navy.mil.

FOR FURTHER INFORMATION CONTACT: Mr. Alan Jaeger, 805-228-7061, alan.w.jaeger@navy.mil.

Authority: 35 U.S.C. 209(e); 37 CFR 404.7.

Dated: July 9, 2019.
Meredith Steingold Werner,
Commander, Judge Advocate General's Corps, U.S. Navy, Federal Register Liaison Officer.

[FR Doc. 2019-14845 Filed 7-11-19; 8:45 am]

BILLING CODE 3810-FF-P